DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of May, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,421; Exide Technologies, Transportation Global Business A Unit. Shreveport, LA.

TA-W-41,235; Charmilles Technologies Manufacturing Corp., Owosso, MI

TA-W-41,278; Siegwerk, Inc., Lynchburg, VA

TA-W-41,321; Penn-Union Corp., Edinboro, PA

In the following cases, the investigation revealed that the criteria for eligibility have not been met for the reasons specified.

The workers firm does not produce an article as required for certification under Section 222 of the Trade Act of 1974.

TA-W-41,292; Aerocell Structural, Hot Springs, AR

TA-W-41,411; Holiday Products, Inc., El Paso, TX

TA-W-40,537; Protel, Inc., Lakeland, FL

Increased imports did not contribute importantly to worker separations at the firm.

TA-W-41,245; International Paper Containerboard and Kraft Div., Oswego, NY.

TA-W-41,255; American Greetings Corp., Corbin, KY

TA-W-39,600B; General Electric Industrial Systems, Magnetic Wire Div., Fort Wayne, IN

TA-W-41,191; Reflexite Display Optics, A Div. Of Fresnel Optics, Inc., Rochester, NY

TA-W-41,111; Invensys Climate Controls, Plastics Molding Div., Brownsville, TX

TA-W-40,330; Teasdale Tool Corp., Meadville, PA

TA-W-39,600B; General Electric Industrial Systems, Magnetic Wire Div., Fort Wayne, IN

TA-W-39,139; JDS Uniphase Corp. (Formerly Uniphase Corp), Lundy, Facility, (Formerly E Tek Dynamics), A Div. Of the WDM, Switching and Thin Film Products Group, San Jose, CA

TA-W-39,698; RHI America, Farber, MO

TA-W-40,882; Bassett Mirror Co., Bassett, VA

TA-W-40,894; Detroit Tool and Engineering Co., Lebanon, MO

TA-W-41,103; Metso Minerals Industries, Inc., Clintonville, WI

TA-W-41,023; Jabil Circuit, Inc., Meridian, OH

The investigation revealed that criteria (2) has not been met. Sales or production did not decline during the relevant period as required for certification.

TA-W-41,299; Smead Manufacturing, McGregor, TX

TA-W-41,142; SPX Valves and Controls, Lake City, PA

Affirmative Determinations for Worker Adjustment Assistance

The following certifications have been issued; the date following the company name and location of each determination references the impact date for all workers of such determination.

TA-W-39,600 & A; General Electric Industrial Systems, Motors Division, Fort Wayne, IN and Transformer Div., Fort Wayne, IN: June 21, 2000.

TA-W-40,391; Deck Brothers, Inc., Buffalo, NY: September 18, 2000.

TA-W-39,921; Guilford Mills, Inc., Lumberton, NC: July 18, 2000.

TA-W-39,397; Teleflex Morse, Inc, Formerly Known as Morse Controls, Hudson, OH: May 25, 2000.

TA-W-41,109; R.G. Knitting Mills, Inc., Woonsocket, RI: February 26, 2001.

TA-W-40,908; Tumi, Inc., Vidalia, GA: January 29, 2000.

TA-W-40,830; Wire Corporation of America, Inc., Kansas City, MO: January 16, 2001.

TA-W-41,003; Drexel Heritage Furnishings, Inc., Plant #1, Drexel NC: January 18, 2001.

TA-W-41,077 & A; Maloney Tool and Mold, Inc., Meadville, PA and Maloney Plastics, Inc., Meadville, PA: February 4, 2001.

TA-W-41,215; Birdair, Inc., Amherst, NY: March 11, 2001.

TA-W-41,349; Fayette Cotton Mill, Inc., Fayette, AL: March 11, 2001.

TA-W-41,339; Johnson Garment Corp., Marshfield, WI: March 28, 2001.

TA-W-41,293; Radiall, Inc., Stratford, CT: January 12, 2001.

TA-W-41,090; Regal Originals, Inc., New York, NY: February 5, 2001.

TA-W-40,671 & A,B; Isola Laminate Systems Corp., La Crosse, WI, Pendleton, SC and Hoosick Falls, NY: December 10, 2000.

TA-W-40,763; R.C.M. Manufacturing Co., River Falls Manufacturing Co., Division of S. Rothschild & Co., Fall River, MA: October 15, 2000.

TA-W-40,772; O-Cedar Brands, Inc., Standard Brush Div., Smallwares Department, Portland, In: January 31, 2001.

TA-W-40,799; Pinnacle Frames, Pocahontas, AR: January 11, 2001.

TA-W-41,027 & A; Centurion Wireless Technologies, Inc., Lincoln, NE and Westminster, CO: January 15, 2001.

TA-W-41,056; LTV Tubular Products Co./LTV Copperweld, Youngstown, OH: February 8, 2001.

TA-W-39,478; Window Concepts, Inc., Wilson, NC: June 6, 2000.

TA-W-40,390; Carlisle Engineered Products, Lake City, PA: October 23, 2000.

TA-W-40,574; Heckett Multiserv, A Div. Of Harsco Corp., Employed at Geneva Steel, Provo, UT: November 30, 2000.

TA-W-40,603; Tiffany Knits, Inc., Schuykill Haven, PA: November 5, 2000.

TA-W-40,631; Skip's Cutting, Inc., American Dye and Finishing, TA-W-41,265; A.P. Green Industries, Inc., Including Leased Workers of Drexel Personnel Services, Middletown, PA: March 7, 2001.

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the month of May, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05034B; General Electric Industrial Systems, Magnetic Wire Div., Fort Wayne, IN

NAFTA-TAA-05087; RHI America, Farber, MO

NAFTA-TAA-05505; Bassett Mirror Co., Inc., Inc.

NAFTA-TAA-05663; Exide Technologies, Transportation Global Business Unit, Shreveport, LA

NAFTA-TAA-05787; Flextronics Enclosures, Smithfield, NC

NAFTA-TAA-05880; Victaulic Co. of America, Easton, PA

NAFTA-TAA-05893; Metso Minerals Industries, Inc., Clintonville, WI

NAFTA-TAA-05895; Jabil Circuit, Inc., Meridian, ID

NAFTA-TAA-05963A; Valeo Climate Control, Aluminum Tubing Line, USA-2 Div., Grand Prairie, TX

NAFTA-TAA-06031; H,J. Seagrott Co., Inc., Berlin, NY

NAFTA-TAA-05465; Teasdale Tool Corp., Meadville, PA

NAFTA-TAA-05934; Sheldahl, Inc., Northfield, MN

NAFTA-TAA-05944; Invensys Climate Controls, Plastics Molding Div., Brownsville, TX

NAFTA-TAA-06109; Gretagnacbeth, LLC A Sub. Of Amazys AG, New Windsor, NY

The investigation revealed that the criteria for eligibility have not been met for the reasons specified.

The investigation revealed that workers of the subject firm did not produce an article within the meaning of Section 250(a) of the Trade Act, as amended.

NAFTA-TAA-05972; Cummins Diesel Recon, Charleston, SC

NAFTA-TAA-05623; Protel, Inc., Lakeland, FL

NAFTA-TAA-06023; Aerocell Structures, Hot Springs, AR

The investigation revealed that criteria (1) has not been met. A significant number or proportion of the workers in such workers' firm or an appropriate subdivision including workers in any agricultural firm or appropriate sub-division thereof) did not become totally or partially separated from employment.

NAFTA-TAA-05128; Ambler Industries, A Subsidiary of Fishman and Tobin, Inc., Orangeburg, SC

Affirmative Determinations NAFTA-NAFTA-TAA

NAFTA-TAA-05963; Valeo Climate Control, USA-2, Division, Automotive Air Conditioning Condensers Line, Grand Prairie, TX: March 18, 2001.

NAFTA-TAA-05034 & A; General Electric Industrial Systems Motors Div., Fort Wayne, IN and Transformer Div., Fort Wayne, IN: June 22, 2000.

NAFTA-TAA-05859 & A; Schott Corp., Minnesota Plant, Jefferson, MN and Canby Plant, Canby, MN: February 14, 2001.

NAFTA-TAA-05933; Comdial Corp., Telecom, Charlottesville, VA: March 5, 2001.

NAFTA-TAA-05945; Dunham-Bush, Inc., Harrisonburg, VA: January 30, 2001.

NAFTA-TAA-05996 & A; Riverside Paper Corp., Riverside Paper Co., Appleton, WI and Kerwin Paper Mill, Appleton, WI: March 20, 2001.

NAFTA-TAA-06021; Aspen Trailer, Inc., Litchfield, MN: March 19, 2001.

NAFTA-TAA-05896; Brach Confections, Inc., Chicago, IL: February 25, 2001.

NAFTA-TAA-05917; Kraft Foods, Cereals/Desserts Div., Minneapolis, MN: February 26, 2001.

NAFTA-TAA-06006; Braden Manufacturing, LLC, Fort Smith, AR: March 25, 2001.

NAFTA-TAA-06008; Howmet Castings, City of Industry, CA: March 21, 2001.

NAFTA-TAA-06038; Birdair, Inc., Amherst, NY: March 11, 2001.

I hereby certify that the aforementioned determinations were issued during the month of May, 2002. Copies of these determinations are available for inspection in Room C-5311, U.S. Department of Labor, 200 Constitution Avenue, NW., Washington, DC 20210 during normal business hours or will be mailed to persons who write to the above address.

Dated: May 28, 2002.
Edward A. Tomchick,
Director, Division of Trade Adjustment Assistance.

[FR Doc. 02-13939 Filed 6-3-02; 8:45 am]

BILLING CODE 4510-30-P